DEPARTMENT OF ENERGY

Federal Energy Regulatory Commission

Notice of Effectiveness of Exempt Wholesale Generator Status

| Docket Nos.
ESS Lewes Project, LLC | EG17-1-000
Comanche Peak Power Company LLC | EG17-2-000
Clinton Battery Utility, LLC | EG17-3-000
CXA Sundevil Power I, Inc | EG17-4-000
CXA Sundevil Power II, Inc | EG17-5-000
Broadview Energy JN, LLC | EG17-6-000
Broadview Energy KW, LLC | EG17-7-000
Moapa Southern Paiute Solar, LLC | EG17-8-000
Ocean State Power LLC | EG17-9-000
Applied Energy LLC | EG17-10-000
Applied Energy LLC | EG17-11-000
Javelina Wind Energy II, LLC | EG17-12-000
ESS Snook Project, LLC | EG17-13-000
ESS Rabbit Hill Project, LLC | EG17-14-000
Bluestem Wind Energy, LLC | EG17-15-000
96WI 8me LLC | EG17-16-000
TransCanada Maine Wind Development Inc | EG17-17-000
Innovative Solar 47, LLC | EG17-18-000

Take notice that during the month of December 2016, the status of the above-captioned entities as Exempt Wholesale Generators became effective by operation of the Commission's regulations. 18 CFR 366.7(a) (2017)

Dated: January 5, 2017.
Nathaniel J. Davis, Sr.,
Deputy Secretary.

[FR Doc. 2017-00391 Filed 1-10-17; 8:45 am]

BILLING CODE 6717-01-P